DEPARTMENT OF TRANSPORTATION

Maritime Administration

[Docket No. MARAD-2020-0127]

Deepwater Port License Application: Blue Marlin LLC (BMOP)—Draft Environmental Impact Statement

AGENCY: Maritime Administration, U.S. Department of Transportation

ACTION: Notice of availability; notice of public meeting; request for comments.

SUMMARY: The U.S. Coast Guard (USCG) and the Maritime Administration announce the start of the comment period and the public meeting for the Draft Environmental Impact Statement (DEIS) for the BMOP LLC (BMOP) deepwater port license application for the export of oil from the United States to nations abroad. The BMOP application proposes the ownership, construction, operation, and eventual decommissioning of an offshore oil export deepwater port that would be located within and adjacent to the Outer Continental Shelf (OCS) in West Cameron Lease Blocks (WC) 509 and 508 and East Cameron (EC) Block 263. Following the existing Stingray pipeline, the DWP will be approximately 99 statute miles off the coast of Cameron Parish, Louisiana, with an approximate water depth of 162 feet. The deepwater port would allow for loading Very Large Crude Carriers (VLCCs) and other sized crude oil cargo carriers via a Catenary Anchor Leg Mooring (CALM).

DATES: The USCG and MARAD will hold two public meetings in connection with the BMOP deepwater port license application. The first public meeting will be held on March 11, 2025, from 6 p.m. to 8 p.m. central time in the Cameron Parish Police, Jury West Annex, 148 Smith Circle, Cameron, LA. The second public meeting will be held on March 12, 2025, from 6 p.m. to 8 p.m. central time in the Bob Bowers Civic Center, 3401 Cultural Center Drive, Port Arthur, TX 77640. Each public meeting will be preceded by an Informational Open House, which will take place between 5 p.m. and 6 p.m. central time. Depending on the number of persons who wish to comment on the record, the meetings may end later than the stated time. Anyone interested in attending or speaking during the meetings must register. Registration information is provided in the Public Participation section of this Notice.

ADDRESSES: Comments on the DEIS should be submitted to the U.S. Department of Transportation's Docket Management Facility or online to www.regulations.gov under docket number MARAD-2020-0127 no later than 45 days after this Federal Register Notice publishes. The address of the Docket Management Facility is as follows: U.S. Department of Transportation, MARAD-2020-0127, 1200 New Jersey Avenue SE, West Building, Room W12-140, Washington, DC 20590. Improperly submitted comments may not be considered.

FOR FURTHER INFORMATION CONTACT: Mrs. Martha Mannion, Project Manager, USCG, telephone: 202-372-4500, email: DeepwaterPorts@USCG.mil; or Dr. Efrain Lopez, Transportation Industry Analyst, Office of Deepwater Ports and Port Conveyance, MARAD, telephone: 202-366-4000, email: Deepwater.Ports@DOT.gov.

Please include “MARAD-2020-0127, BMOP Comment” in the subject line of the message. For written comments and other material submissions, please follow the directions under the “How do I submit comments?” question in the Public Participation section of this notice.

SUPPLEMENTARY INFORMATION:

Prior Federal Actions

On October 1, 2020, USCG and MARAD received an application from Blue Marlin Offshore Port LLC (BMOP) for Federal authorizations required for a license to own, construct, and operate a deepwater port for the export of oil as authorized by the Deepwater Port Act of 1974, as amended, 33 U.S.C. 1501 et seq. (the Act), and implemented under 33 Code of Federal Regulations (CFR) parts 148, 149, and 150.

A Notice of Application that summarized the BMOP Deepwater Port License Application was published in the Federal Register on November 4, 2020 (85 FR 70233). A Notice of Intent to Prepare an Environmental Impact Statement (EIS) and a Notice of Public Scoping Meeting were published in the Federal Register on November 5, 2020 (85 FR 70707). The Federal agencies involved held a public scoping meeting in connection with the evaluation of the BMOP license application. The meetings were held virtually for the communities of Cameron Parish, Louisiana, and Jefferson and Orange County, Texas, on December 2, 2020, and December 3, 2020, from 6:00 p.m. to 8:00 p.m. Central Standard Time (CST). The public scoping meeting summary report is included on the public docket located at https://www.regulations.gov/document/MARAD-2020-0127-0035.

Summary of the License Application

BMOP is proposing to construct, own, and operate a deepwater port terminal in the Gulf of America to export domestically produced crude oil. Use of the deepwater port would include the loading of various grades of crude oil at flow rates of up to 80,000 barrels per hour (bph). The BMOP deepwater port would allow for up to one (1) Very Large Crude Carrier (VLCCs) or other crude oil carrier to moor at the catenary anchor leg mooring (CALM) and connect with the deepwater port via floating connecting crude oil hoses. The maximum frequency of loading VLCCs or other crude oil carriers would be approximately 2 million barrels per day (1,920,000), 365 days per year.

The overall project would consist of offshore and marine components as well as onshore components as described below.

The BMOP deepwater port offshore and marine components would consist of the following:

Two new CALM Buoys installed, one in WC 508 (CALM Buoy No. 1) and the other in EC 263 (CALM Buoy No. 2). The CALM Buoys will be anchored to the seafloor via an engineered mooring system capable of accommodating mooring forces exerted by a VLCC or other large seafaring vessels during loading operations. Two 24-inch diameter floating hoses will be connected to each CALM Buoy. The hoses will be approximately 1,500 feet long and used for loading operations.

Two new PLEMs installed and anchored on the seafloor. Two 24-inch undersea flexible hoses will be connected to each PLEM and associated CALM Buoy.

Two Crude Oil Loading Pipelines, approximately 4,710 feet long to PLEM/CALM Buoy No. 1 and 6,085 feet long to PLEM/CALM Buoy No. 2, installed from the WC 509 Platform Complex to the PLEM and CALM locations, one for each PLEM and CALM Buoy. The pipelines will be installed with the top of pipe at least three feet below the natural seafloor.

New MLV on WC 148 Platform;

Two new 36-inch risers connected to the Crude Oil Loading Pipelines on WC 509B Platform;

New control room on WC 509B Platform;

Three new pig barrels, one on the WC 509A Platform and two on WC 509B Platform;

Meter station for crude oil on the WC 509B Platform;

New living quarters (LQ) and heliport on the WC 509C Platform;

Surge valves and tank on the WC 509B Platform; and

New ancillary equipment for the 509 Platform (e.g., power generators, instrument/utility air system, fuel tanks, AC units, freshwater makers, firewater system, seawater and freshwater system, sewage treatment unit, fuel gas system, diesel system, closed drain system, open drain system, hydraulic power unit, hypochlorite system, cranes, communications tower and system, radar) to support the operation of the offshore facilities.

The BMOP deepwater port would consist of the following:

Safety Zone—The Applicant is requesting that the USCG Captain of the Port establish a Safety Zone around the entire DWP operations area. Generally, a DWP Safety Zone would only be open to entry for VLCCs or other crude oil carriers prepared for connection for loading of crude oil, and the necessary service vessels supporting that process.

Anchorage area—Existing USCG-designated anchorage areas will be utilized for VLCCs (or other crude carriers) awaiting mooring at a CALM Buoy or if they must disconnect from the CALM Buoys for safety reasons.

Support vessel mooring area—A designated Service Vessel Mooring Area will be established by the Applicant in proximity to the offshore WC 509 facilities.

Temporary pre-fabrication yards—Component fabrication will occur at multiple existing fabrication facilities within the GOA coastal region.

Support facilities—Facilities within the GOA coastal region providing support for offshore operations and maintenance activities (e.g., helicopters, supply vessels, work boats, equipment suppliers, and maintenance workers).

Request for Comments

You are encouraged to provide comments on the proposed action and the environmental impact analysis contained in the DEIS for the proposed BMOP deepwater port. We encourage you to review the information on the project's docket located online at www.regulations.gov under docket number MARAD-2020-0127.

Please see the information in the Public Participation section below on how to properly submit comments. All comments submitted to the docket via www.regulations.gov or delivered to the Federal Docket Management Facility will be posted, without change, to the Federal Docket Management Facility website (www.regulations.gov) and will include any personal information you provide. Therefore, submitting such information makes it public. You may wish to read the Privacy and Use Notice available on the www.regulations.gov website and the Department of Transportation (DOT) Privacy Act Notice that appeared in the Federal Register on April 11, 2000 (65 FR 19477), see Privacy Act section of this Notice. You may view docket submissions at the DOT Docket Management Facility or electronically at the www.regulations.gov website.

Public Meeting Information

You are invited to attend the Public Meeting and encouraged to provide comments on the BMOP deepwater port application. Speakers are requested to register for the Public Meeting. Registration instructions are listed under the “How do I register to speak at the public meeting?” section under the Public Participation section of this notice. Speakers will be recognized in the following order during the Public Meeting: elected officials, public agency representatives, and then individuals or groups in the order in which they registered. In order to accommodate all speakers, speakers' time may be limited, meeting hours may be extended, or both. Speakers' transcribed remarks will be included in the public docket. You may also submit written material for inclusion in the public docket. Written material must include the author's name. We ask attendees to respect the meeting procedures to ensure a constructive information-gathering session. The presiding officer will use their discretion to conduct the meeting in an orderly manner.

The Public Meeting will be conducted in English, Spanish, and Vietnamese in Texas and English in Louisiana. Public Meeting attendees who require special assistance, such as translation services or other reasonable accommodation, please notify the USCG or MARAD (see FOR FURTHER INFORMATION CONTACT) at least five business days in advance. Please include contact information as well as information about specific needs.

Public Participation

How do I prepare comments?

To ensure that your comments are correctly filed in the Docket, please include the docket number (MARAD-2020-0127) shown at the beginning of this document in your comments. If you are submitting comments electronically as a .pdf (Adobe Acrobat) File, the USCG and MARAD ask that the documents be submitted using the Optical Character Recognition (OCR) process, thus allowing the agencies to search and copy certain portions of your submissions.

Please note that pursuant to the Data Quality Act, for substantive data to be relied upon and used by the agency, it must meet the information quality standards set forth in the Office of Management and Budget (OMB) and Department of Transportation (DOT) Data Quality Act guidelines. Accordingly, we encourage you to consult the guidelines in preparing your comments. OMB's guidelines may be accessed at www.whitehouse.gov/omb/fedreg/reproducible.html. DOT's guidelines may be accessed at www.bts.gov/programs/statistical_policy_and_research/data_quality_guidelines.

How do I submit comments?

You may submit comments for the BMOP deepwater license application DEIS (identified by DOT Docket Number MARAD-2020-0127) by any one of the following methods:

Mail or Hand Delivery: The Docket Management Facility is in the West Building, Ground Floor of the U.S. Department of Transportation. The Docket Management Facility location address is U.S. Department of Transportation, MARAD-2020-0127, 1200 New Jersey Avenue SE, West Building, Room W12-140, Washington, DC 20590. Call 202-493-0402 to determine facility hours prior to hand delivery.

Federal eRulemaking Portal: Go to www.regulations.gov. Search “MARAD-2020-0127” and follow the instructions for submitting comments.

Fax: Comments may be faxed to the Docket Management Facility at 202-493-2251. Your comment must include the docket number (MARAD-2020-0127) to be placed to the proper docket.

Note: If you mail or hand-deliver your comments, we recommend that you include your name and a mailing address, an email address, and/or a telephone number on a cover page so that we can contact you if we have questions regarding your submission. All submissions received must include the agency name and specific docket number to ensure your comment is filed in the appropriate docket. All comments received will be posted without change to the docket at www.regulations.gov, including any personal information provided. If you submit your comments by mail or hand delivery, submit them in an unbound format, no larger than 8½ by 11 inches, suitable for copying and electronic filing. The instructions listed in this section are the only methods in which comments will be accepted for submission to the docket. It is the commenter's responsibility to comply with the instructions above to ensure that their comments are properly submitted for consideration and review. Comments that are submitted in any other manner and to any other location may not be considered.

What will happen if I submit comments in any other manner?

Comments that are not submitted directly to the Docket Management Facility using the methods specified and outlined within this Federal Register notice may not be considered. It is the commenter's responsibility to comply with the instructions above to ensure that their comments are properly submitted for review.

How long do I have to submit comments?

The comment period for the public to submit comments will commence with the publication of this Federal Register Notice and will end 45 calendar days from this date. I provided the USCG and MARAD comments on the BMOP scoping meeting orally or in writing, in another forum. May I provide comments in response to this notice as well?

Yes, the USCG and MARAD encourage any member of the public to submit relevant comments for the docket, including input that has previously been communicated to the agencies.

How can I be sure that my comments sent by mail were received?

If you wish for Docket Management to notify you upon its receipt of your comments, enclose a self-addressed, stamped postcard in the envelope containing your comments. Upon receiving your comments, Docket Management will return the postcard by mail.

Will the Agency consider late comments?

The USCG and MARAD will review all substantive comments that Docket Management receives before the close of business on the comment closing date indicated above under the DATES section. Comments submitted outside the comment period may not be considered.

How can I read the comments submitted by other people?

You may read the comments received by Docket Management at the address given above under the ADDRESSES section of this Notice. The hours of the Docket Management Unit are indicated above in the same location. You may also see the comments on the internet. To read the comments on the internet, go to www.regulations.gov. Follow the online instructions for accessing the dockets.

How do I register to speak at the public meeting?

You may register for the proceedings onsite prior to or during the public meeting. No pre-registration is required.

Privacy Act

Anyone can search the electronic form of all comments received into any of our dockets by the name of the individual submitting the comment (or signing the comment if submitted on behalf of an association, business, labor union, etc.). For information on DOT's compliance with the Privacy Act, visit www.transportation.gov/privacy.

(Authority: 33 U.S.C. 1501, et seq.; 49 CFR 1.93(h))

By Order of the Maritime Administrator.
T. Mitchell Hudson, Jr.,
Secretary, Maritime Administration.

[FR Doc. 2025-02895 Filed 2-20-25; 8:45 am]

BILLING CODE 4910-81-P